FEDERAL MARITIME COMMISSION

[Docket No. 21-11]

OJ Commerce, LLC, Complainant v. Hamburg Südamerikanische Dampfschifffahrts-Gesellschaft A/S & Co KG and Hamburg Sud North America, Inc., Respondents; Notice of Filing of Complaint and Assignment

Served: December 13, 2021.

Notice is given that a complaint has been filed with the Federal Maritime Commission (“Commission”) by OJ Commerce, LLC, hereinafter “Complainant”, against Hamburg Südamerikanische Dampfschifffahrts-Gesellschaft A/S & Co KG (“Hamburg”) and Hamburg Sud North America, Inc (“Hamburg NA”), hereinafter “Respondents.” Complainant alleges that Respondent Hamburg is a German common carrier and that Respondent Hamburg NA is a Delaware corporation and a marine terminal operator.

Complainant alleges that Respondents violated 46 U.S.C. 41102(c) and 46 CFR 545.4 and 545.5 with regard to the movement of containers. The full text of the complaint can be found in the Commission's Electronic Reading Room at https://www2.fmc.gov/readingroom/proceeding/21-11/.

This proceeding has been assigned to Office of Administrative Law Judges. The initial decision of the presiding office in this proceeding shall be issued by December 13, 2022, and the final decision of the Commission shall be issued by June 27, 2023.

JoAnne O'Bryant,
Program Analyst.

[FR Doc. 2021-27332 Filed 12-16-21; 8:45 am]

BILLING CODE 6730-02-P